DEPARTMENT OF AGRICULTURE

Rural Business-Cooperative Service

[Docket #RBS-21-BUSINESS-0026]

Notice of Funding Opportunity for the Biofuel Producer Program for Fiscal Year 2021

AGENCY: Rural Business-Cooperative Service, USDA.

ACTION: Notice.

SUMMARY: The Rural Business-Cooperative Service (RBCS or Agency), an agency of the United States Department of Agriculture (USDA), announces the application window, application requirements and the availability of up to $700 million in payments to eligible biofuel producers for unexpected market losses as a result of COVID-19 in order to maintain a viable and significant biofuels market for agricultural producers that supply biofuel producers. The Biofuel Producer Program is authorized under Title I of Division B of the Coronavirus Aid, Relief, and Economic Security (CARES) Act. All applicants are responsible for any expenses incurred in developing their applications.

DATES: Applications for the Biofuel Producer Program must be received by 11:59 p.m. EDT on February 11, 2022.

ADDRESSES: Application materials, requirements and other important information is available on the Biofuel Producer Program's website at https://www.rd.usda.gov/programs-services/energy-programs/biofuel-producer-relief-payments-program. Application materials may also be obtained by contacting the Agency at EnergyPrograms@usda.gov.

Application submission: Applications must be submitted electronically to EnergyPrograms@usda.gov by the deadline stated in the DATES section of this Notice.

FOR FURTHER INFORMATION CONTACT: Lisa Noty, USDA Rural Development, Rural Business-Cooperative Service. Telephone: (712) 254-4366, email: lisa.noty@usda.gov. Persons with disabilities that require alternative means for communication should contact the U.S. Department of Agriculture (USDA) Target Center at (202) 720-2600 (voice).

SUPPLEMENTARY INFORMATION:

Overview

Federal Agency: Rural Business-Cooperative Service.

Funding Opportunity Title: Notice of Funding Opportunity for the Biofuel Producer Program for Fiscal Year 2021.

Announcement Type: Notice of Funding Opportunity.

Assistance Listings Number: 10.378.

Due Date for Applications: Applications must be submitted electronically to EnergyPrograms@usda.gov and must be received by 11:59 p.m. Eastern Daylight Time (EDT) February 11, 2022.

A. Program Description

1. Purpose of the program. The Biofuel Producer Program will make payments to eligible producers of eligible biofuel for unexpected market losses as a result of COVID-19. These payments to biofuel producers support the maintenance and viability of a significant market for agricultural producers of products such a corn, soybean or biomass that supply biofuel production. Payment to a biofuel producer will be based upon the volume of market loss the biofuel producer experienced in calendar year 2020. The producer's volume of market loss will be calculated by comparing the amount of fuel (gallons of eligible biofuel) they produced in calendar year 2020 to the amount of fuel (gallons of eligible biofuel) produced in calendar year 2019. Eligible biofuel (gallons of biofuel) produced by the eligible producer in 2020 to meet required contractual commitments resulting in a gross profit loss will be deducted from 2020 production by the Agency's calculation of program payments. Quantities of gaseous biofuel will be converted into gallons based on the British Thermal Unit (BTU) equivalent of one gallon of biodiesel using factors published by the Energy Information Administration (EIA).

The payments will be based on a fixed amount per gallon for all eligible producers. The fixed amount per gallon will be calculated by dividing the amount of program funding available by the total volume of market loss reported by eligible program applicants. USDA may limit the payment fixed amount per gallon.

2. Statutory authority. The CARES Act (Pub. L. 116-136) authorizes the Secretary of Agriculture to prevent, prepare for, and respond to coronavirus by providing support for agricultural producers impacted by coronavirus. This authority includes supporting agricultural producers that rely on biofuels producers as a market for their agricultural products such as corn, soybeans and biomass, by making payments to producers of biofuels in order to maintain a viable and significant market for such agricultural products in light of the adverse effects on that market from the coronavirus. In some cases, crops have been specifically developed for biofuel production, such as high-amylase corn varieties that are designed for the ethanol fermentation process. Many agricultural producers may be part of farmer-owned cooperatives that in some case require members to supply a certain amount of a crop to the plant.

3. Definitions. The following definitions are applicable to this Notice:

Agency means Rural Business-Cooperative Service, USDA, Rural Development.

Applicant means a sole proprietorship or legal entity who makes a request for payment under this Notice.

Eligible biofuel means renewable fuel that is produced from renewable biomass and that is used to replace or reduce the quantity of fossil fuel present in a transportation fuel, comprised of advanced biofuel, biomass-based diesel, cellulosic biofuel, or conventional biofuel, as such terms are defined in section 211(o)(1) of the Clean Air Act (42 U.S.C. 7545(o)(1)) produced in the United States.

Eligible producer means a sole proprietorship or legal entity that produces an eligible biofuel. A sole proprietorship or legal entity that produces eligible biofuel as a third-party producer under a toll/bailment arrangement production contract is considered an eligible producer under this Notice. The following are not considered an eligible producer under this Notice:

i. A sole proprietorship or legal entity that exclusively contracts for the production of biofuel by a third-party producer(s) under a toll/bailment arrangement/third party production contract.

ii. A sole proprietorship or legal entity that blends or otherwise combines biofuels into a blended biofuel.

Gross Profit means revenue minus the cost of goods sold. Gross profit only includes variable costs and does not account for fixed costs.

Recipient means a sole proprietorship or legal entity receiving a Biofuel Producer Program payment under this Notice.

B. Federal Award Information

Type of awards: Payment.

Available funds: Up to $700,000,000.

Payment amounts: The total number of payments and the funding provided per recipient will depend on the number of eligible recipients.

Due date for applications: Applications must be submitted electronically to EnergyPrograms@usda.gov and must be received by 11:59 p.m. EDT February 11, 2022.

Anticipated award date: Payments to participating biofuels producers will be made following the conclusion of the application cycle. The Agency anticipates only making one payment to selected applicants under this Notice.

Type of assistance instrument: Payment.

C. Eligibility Information

1. Eligible applicants. To be eligible for this program, the applicant must be an independent eligible producer or own and control multiple eligible producer entities as defined in section A.3 of this Notice. Eligible producers that are owned or controlled by a sole proprietorship or entity that owns or controls multiple eligible producers are not eligible applicants—in such cases, the sole proprietorship or entity that owns or controls multiple eligible producers may be an eligible applicant. In addition, to be eligible for this program, applicants must meet all requirements for program payments, and must meet the citizenship requirement specified in paragraphs i or ii, as applicable, of this section.

i. If the applicant is a sole proprietorship, the applicant must be a citizen or national of the United States (U.S.), the Republic of Palau, the Federated States of Micronesia, the Republic of the Marshall Islands, or American Samoa, or must reside in the U.S. after legal admittance for permanent residence.

ii. If the applicant is an entity other than a sole proprietorship, the applicant must be at least 51 percent owned by persons who are either citizens or nationals of the U.S., the Republic of Palau, the Federated States of Micronesia, the Republic of the Marshall Islands, or American Samoa, or legally admitted permanent residents residing in the U.S.

iii. The Agency will determine an applicant's eligibility for participation in this program.

iv. If additional information is needed for the Agency to determine an applicant's eligibility, the Agency will notify the applicant, in writing, as soon as practicable. This notification will identify, at a minimum, the additional information being requested and a timeframe in which to supply the information.

v. An otherwise eligible producer will be determined to be ineligible if the producer:

a. Refuses to allow the Agency to verify any information provided by the applicant under this program, including information for determining applicant eligibility and application payments; or

b. Fails to meet any of the conditions set out in this Notice or in other program documents; or

c. Fails to comply with all applicable Federal, tribal, state, and local laws.

2. Eligible recipient. Payments will be made to eligible producers of eligible biofuel for unexpected market losses as a result of COVID-19.

3. Other. Applicants must report all production of all eligible biofuel for all their production facilities under a single application and must include production facilities that did not experience market losses. A production facility may be reported by only one applicant. Application requirements and other important information is available on the program's website [Insert Web Address].

D. Application and Submission Information

1. Web Address for requesting application package. Applicants seeking to participate in this program must submit an application in accordance with this Notice. Application and supporting materials are available on the program's website at https://www.rd.usda.gov/programs-services/energy-programs/biofuel-producer-relief-payments-program.

2. Electronic application and submission. Applications must be submitted electronically to EnergyPrograms@usda.gov. Instructions and resources for completing the application are available on the program's website at https://www.rd.usda.gov/programs-services/energy-programs/biofuel-producer-relief-payments-program. No other form of application will be accepted.

3. Dun and Bradstreet Data Universal Numbering System (DUNS) and System for Award Management (SAM). All applicants must have a DUNs number which can be obtained at no cost via a toll-free request line at (866) 705-5711 or online at http://fedgov.dnb.com/webform.

i. Each applicant must (a) be registered in the System for Award Management (SAM) before submitting its application and (b) provide a valid unique entity identifier in its application, unless determined exempt under 2 CFR 25.110. It is strongly recommended that applicants begin the registration process as soon as possible.

ii. Applicant must maintain an active SAM registration, with current, accurate and complete information, at all times during which it has an active Federal award or an application under consideration by a Federal awarding agency.

iii. Applicant must complete the Financial Assistance General Certifications and Representations in SAM.

iv. The Agency will not make an award until the applicant has complied with all applicable DUNS (unique entity identifier) and SAM requirements including maintaining an active SAM registration. If an applicant has not fully complied with the requirements by the time the Agency is ready to make an award, the Agency may determine that the applicant is not qualified to receive a Federal award and use that determination as a basis for making a Federal award to another applicant.

4. Content of Application. Applications must contain all parts necessary for the Agency to determine applicant eligibility, conduct the application evaluation, and calculate payment, as applicable, in order to be considered.

i. A complete application is comprised of the following elements:

a. Application form, Form RD 4288-7.

b. Application worksheet reporting production of eligible biofuel, Part B Attachment to Form RD 4288-7. Applicants producing eligible biofuel in more than one production facility must report production for all of their production facilities including production facilities that did not experience market losses.

c. Automated Clearing House Vendor/Miscellaneous Payment Enrollment Form, Form SF-3881.

d. Assurance Agreement, Form RD 400-4.

e. Disclosure of Lobbying Activities, Form SF-LLL.

f. Certification for Contracts, Grants and Loans (RD Instruction 1940-Q; Exhibit A-1).

g. Contracts and Financial Information. Include copies of contracts and financial statements and supporting documentation for payment requests that include production in 2020 that was required to meet contractual commitments and resulted in a gross profit loss.

h. Certifications. The producer must furnish the Agency the Renewable Identification Number (RIN) for each biofuel and all required certifications before acceptance into the program and furnish access to the producer's records required by the Agency to verify compliance with program provisions. The required certifications depend on the type of biofuel produced.

1. Alcohol. For alcohol producers with authority from the Bureau of Alcohol, Tobacco and Firearms (ATF) to produce alcohol, certify to compliance of either:

i. The Alcohol Fuel Producers Permit (ATF F 5110.74) or

ii. The registration of Distilled Spirits Plant (ATF F 5110.41) and Operating Permit (ATF F 5110.23).

2. Hydrous ethanol. For hydrous ethanol that is upgraded by another distiller to anhydrous ethyl alcohol, the increased ethanol production is eligible for payment one time only. If the biofuel producer submitting the application under this notice is:

i. The hydrous ethanol producer, then the biofuel producer shall include with the application a certification, acceptable to the Agency, from the distiller stating that the:

A. Applicable hydrous ethanol produced is distilled and denatured for fuel use according to ATF requirements, and

B. Distiller will not submit an application for payment under this notice.

ii. The distiller that upgrades hydrous ethanol to anhydrous ethyl alcohol, then the biofuel producer shall include with the application a certification, acceptable to the Agency, from the hydrous ethanol producer stating that the hydrous ethanol producer will not submit an application for payment under this notice.

Note: The Agency may pay the first applicant to the exclusion of other possible applicants. Or, the Agency may require an agreement as to payment before paying either. Alternatively, the Agency may designate whether the distiller or the hydrous ethanol producer will be the payee where needed to ensure program integrity.

3. Biodiesel, biomass-based diesel, and liquid hydrocarbons derived from biomass. For these fuels, the biofuel producer's certification that the producer, the biofuel biorefinery, and the biofuel meet the definition, registration requirements as applicable under the Energy Independence and Security Act, and Clean Air Act, and quality requirements per applicable ASTM International standards and commercially acceptable quality standards of the local market. The biofuel producer must also provide the Renewable Identification Number (RIN) for each biofuel and BQ-9000 certification.

4. Gaseous biofuel. For gaseous biofuel producers, copy of contract and certification that the biofuel meets commercially acceptable pipeline quality standards of the local market.

ii. All applications determined to be insufficient to determine eligibility as stated in Sections C and D.3 of this Notice shall be deemed as incomplete and will not receive funding.

5. Submission dates and times. The deadline date for applications to be received, in order to be considered for funding, is specified in the DATES section at the beginning of this notice.

6. Funding restrictions. The following restrictions apply:

i. The Agency anticipates only making one payment to an eligible applicant under this Notice.

ii. An applicant that is otherwise an eligible producer under this Notice and also contracts for production of biofuel by a third-party producer under a toll/bailment arrangement/third party production contract, may not include the biofuel produced by the third party. The application for payment under this Notice will only include eligible biofuel produced by the eligible applicant and not the biofuel produced by a third party under a third-party contract.

7. Other Submission Requirements. The following requirements apply:

i. Applications must be submitted electronically.

ii. Only one application may be submitted per applicant.

A. Applications by an eligible producer requesting payments for multiple facilities must be submitted under a single application and must report production for all their production facilities including production facilities that did not experience market losses.

B. Applications requesting payments for multiple eligible producer entities controlled by a sole proprietorship or entity must be submitted under a single application by the controlling (parent) entity. Applicants must report production for all production facilities the controlling entity (parent) controls under a single application including production facilities that did not experience market losses.

E. Application Review Information

1. Criteria. The applicant must be an eligible applicant and meet the requirements of section C. Eligibility Information. The applicant must be an eligible producer and produce eligible biofuel. Payment to an eligible producer will be based upon the volume of market loss the biofuel producer experienced in calendar year 2020 based on the requirements specified in this notice. Market loss will be calculated by comparing the amount of fuel (gallons of eligible biofuel) an applicant produced in calendar year 2019 to the amount of fuel (gallons of eligible biofuel) produced in the calendar year 2020. Applicants producing eligible biofuel in more than one production facility, market loss will be calculated based on the production for all of their production facilities including production facilities that did not experience market losses.

2. Review and selection process. The Agency will make its determination as to whether or not the applicant, producer, and biofuel is eligible for payment. If an applicant, producer, or biofuel is determined to be ineligible, the Agency will notify the applicant, in writing, of its determination and inform of any review and appeal rights. Payments to successfully appealed applications will be limited to available funding. After an application is submitted, eligible producers may be required to submit additional clarification if their original submittal is not sufficient to verify eligibility for payment or amount of payment.

3. Payment provisions. Payments will be made to all eligible producers based on the requirements specified in this notice in accordance with the provisions of this section.

i. Market loss. Eligible producers of eligible biofuel produced in the United States, shall demonstrate unexpected market losses as a result of COVID-19 by furnishing data containing:

a. Amount of eligible biofuel (gallons of biofuel) produced by the eligible producer in the calendar year 2019 as part of the application worksheet described in section D.4.i.b. of this Notice.

b. Amount of eligible biofuel (gallons of biofuel) produced by the eligible producer in the calendar year 2020 as part of the application worksheet described in section D.4.i.b. of this Notice.

c. Amount of eligible biofuel (gallons of biofuel) reported under (b), above, produced by the eligible producer in 2020 to meet required contractual commitments resulting in a gross profit loss.

d. A signed statement from the applicant attesting to the validity of the information furnished under (a)-(c) above contained in the application form described in section D.4.i.a. of this Notice.

e. Any supporting documentation or data that the applicant may believe will be useful in evaluating the volume of market loss experienced as a result of COVID-19.

ii. Execution of Payments. Based upon the volume of market loss experience data collected as a result of this Notice, the USDA will affix a target volume amount per gallon, limited by the amount of funding available under the authorizing legislation. The amount of payment to a recipient will not exceed $50 million. The maximum amount of payment will be applied for each controlling (parent) entity. The Agency will convert the production of gaseous biofuel into gallons based on the BTU equivalent of one gallon of biodiesel using factors published by the EIA.

iii. Payment liability. Any payment, or portion thereof, made under this Notice shall be made without regard to questions of title under state law and without regard to any claim or lien against the advanced biofuel, or proceeds thereof, in favor of the owner or any other creditor, except agencies of the U.S. Government or to the extent such payments are subject to offset for debts referred to the Treasury Offset Program.

iv. Refunds and interest payments. A biofuel producer who receives payments under this Notice may be required to refund such payments as specified in this section. If the Agency suspects fraudulent representation through its review and records inspections, the producer will be referred to the Office of Inspector General for appropriate action.

a. A biofuel producer receiving payments under this Notice shall become ineligible if the Agency determines the biofuel producer has: (1) Made any fraudulent representation; or (2) misrepresented any material fact affecting an Agency determination.

b. If an Agency determination that a producer is not eligible for participation under this Notice is appealed and overturned, the Agency will make an appropriate and applicable payment to the producer from program funds, to the extent such funds are available.

c. Any payment made to an entity determined by the Agency to be ineligible shall be refunded to the Agency with interest and other such sums as may become due, including, but not limited to, any interest, penalties, and administrative costs as determined appropriate under 31 CFR 901.9.

d. When a refund is due, it shall be paid promptly. The Agency may use all collection remedies available to it in accordance to 7 CFR part 3, including but not limited to offset of federal and state payments through the Treasury Offset Program, reporting of the debt to commercial credit reporting agencies, debarment from receiving federal financial assistance under 31 U.S.C. 3720B, and referral to the Department of Justice for enforcement through litigation.

4. Appeals. Applicants may have either appeal or review rights for Agency decisions made under this Notice. Agency decisions that are adverse to the individual applicant are appealable, while matters of general applicability are not subject to appeal; however, such decisions are reviewable for appealability by the National Appeals Division (NAD). All appeals will be conducted by NAD and will be handled in accordance with 7 CFR part 11. All appeal provisions will be concluded before proceeding with collection actions.

F. Federal Awarding Administration Information

1. Federal award notices. Applicants will be contacted in writing by the Agency to arrange transfer of program payments under this Section. If a producer is determined to be ineligible, the Agency will notify the producer, in writing, of its determination and inform the producer of any review and appeal rights. Payments to successfully appealed applications will be limited to available funding.

2. Administrative and national policy requirements. The Agency reserves the right to request/require that the applicant provide original signatures on forms submitted electronically.

3. Reporting. All recipients of Federal financial assistance are required to report information about first-tier sub-awards and executive compensation in accordance with 2 CFR part 170. If an applicant does not have an exception under 2 CFR 170.110(b), the applicant must then ensure that it has the necessary processes and systems in place to comply with the reporting requirements to receive funding.

In addition, the Agency is requesting that each applicant provide race, ethnicity, and gender information about the applicant. The information will allow the Agency to evaluate its outreach efforts to under-served and under-represented populations. Applicants are encouraged to furnish this information with their applications but are not required to do so. An applicant's eligibility or the likelihood of receiving an award will not be impacted by furnishing or not furnishing this information.

G. Federal Awarding Agency Contacts

For further information, contact Lisa Noty, Loan and Grant Specialist, Program Operations Office, USDA Rural Business-Cooperative Service, 511 West 7th Street, Atlantic, Iowa 50022. Telephone: (712) 254-43661400. Email: lisa.noty@usda.gov. Persons with disabilities that require alternative means for communication should contact the USDA Target Center at (202) 720-2600 (voice).

H. Other Information

1. Congressional Review Act. Pursuant to Subtitle E of the Small Business Regulatory Enforcement Fairness Act of 1996 (also known as the Congressional Review Act or CRA), 5 U.S.C. 801 et seq., the Office of Information and Regulatory Affairs in the Office of Management and Budget designated this action as a major rule as defined by 5 U.S.C. 804(2) because it is likely to result in an annual effect on the economy of $100,000,000 or more. Accordingly, there is a 60-day delay in the effective date of this action. Application selection will not begin until after February 11, 2022. Therefore, the 60-day delay required by the CRA is not expected to have a material impact upon the administration and/or implementation of the Biofuel Producer Program.

2. Paperwork Reduction Act. In accordance with the Paperwork Reduction Act of 1995 (44 U.S.C. chapter 35), the Agency requested that the Office of Management and Budget (OMB) conduct an emergency review by December 13, 2021, of a new information collection that contains the Information Collection and Recordkeeping requirements contained in this notice.

Copies of all forms and instructions referenced in this Notice may be obtained from the program's website at https://www.rd.usda.gov/programs-services/energy-programs/biofuel-producer-relief-payments-program. Data furnished by the applicants will be used to determine eligibility for program benefits. Furnishing the data is voluntary; however, the failure to provide data could result in program benefits being withheld or denied. Comments are invited on (a) whether the collection of information is necessary for the proper performance of the functions of the Agency, including whether the information will have practical utility; (b) the accuracy of the Agency's estimate of burden including the validity of the methodology and assumption used; (c) ways to enhance the quality, utility, and clarity of the information to be collected; and (d) ways to minimize the burden of the collection of information on those who are to respond, including using appropriate automated, electronic, mechanical, or other technological collection techniques on other forms and information technology.

Title: Biofuel Producer Program.

Type of Request: New collection.

Abstract: The Biofuel Producer Program was authorized under Title I of Division B of the Coronavirus Aid, Relief, and Economic Security Act (Pub. L. 116-136). The purpose of the program is to make payments to eligible producers of eligible biofuel for unexpected market losses as a result of COVID-19.

Estimate of Burden: Public reporting burden for this collection of information is estimated to average 1.57 hours per response.

Estimated Number of Respondents: 300.

Estimated Total Annual Responses: 633.

Estimated Total Recordkeeping Hours: 0.

Estimated Total Burden Hours: 996.

Estimated Total Annual Burden (including recordkeeping) on Respondents: 996 hours.

Copies of this information collection can be obtained from Pamela Bennett, Management Analyst, Regulations Management Division, U.S. Department of Agriculture, 1400 Independence Ave. SW, Washington, DC 20250. Phone: 202-720-9639. Email: pamela.bennett@usda.gov.

All responses to this information collection and recordkeeping notice will be summarized and included in the request for OMB approval. All comments will also become a matter of public record.

3. Environmental review information. Payments are being made to producers with existing facilities. Therefore, payments made under this Notice are categorically excluded from the environmental review process.

4. Other federal statutes. The applicant must certify to compliance with other Federal statutes and regulations by completing the Financial Assistance General Certifications and Representations in SAM, including, but not limited to the following:

i. 7 CFR part 15, subpart A—Nondiscrimination in Federally-Assisted Programs of the Department of Agriculture—Effectuation of Title VI of the Civil Rights Act of 1964. Civil Rights compliance includes, but is not limited to the following:

a. Race and ethnicity data will be collected in accordance with Office of Management and Budget (OMB) Federal Register Notice, “Revisions to the Standards for the Classification of Federal Data on Race and Ethnicity” (published October 30, 1997 at 62 FR 58782). Sex data will be collected in accordance with Title IX of the Education Amendments of 1972. These items should not be submitted with the application but should be available upon request by RBCS.

b. The applicant must comply with Title VI of the Civil Rights Act of 1964, Title IX of the Education Amendments of 1972, the Americans with Disabilities Act (ADA), Section 504 of the Rehabilitation Act of 1973, the Age Discrimination Act of 1975, Executive Order 12250, and 7 CFR part 1901, subpart E.

ii. 2 CFR part 417—Governmentwide Debarment and Suspension (Non-procurement), or any successor regulations.

iii. 2 CFR parts 200 and 400 (Uniform Assistance Requirements, Cost Principles and Audit Requirements for Federal Awards), or any successor regulations.

iv. Subpart B of 2 CFR part 421, which adopts the Governmentwide implementation (2 CFR part 182) of the Drug-Free Workplace Act.

v. Executive Order 13166, “Improving Access to Services for Persons with Limited English Proficiency.” For information on limited English proficiency and agency-specific guidance go to http://www.lep.gov/.

vi. Federal Obligation Certification on Delinquent Debt.

5. Nondiscrimination Statement. In accordance with Federal civil rights law and USDA civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; the USDA TARGET Center at (202) 720-2600 (voice and TTY); or the Federal Relay Service at (800) 877-8339.

To file a program discrimination complaint, a complainant should complete a Form AD-3027, USDA Program Discrimination Complaint Form, which can be obtained online at https://www.ocio.usda.gov/document/ad-3027, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410;

(2) Fax: (833) 256-1665 or (202) 690-7442; or

(3) Email: program.intake@usda.gov.

USDA is an equal opportunity provider, employer, and lender.

Karama Neal,
Administrator, Rural Business-Cooperative Service.

[FR Doc. 2021-26876 Filed 12-10-21; 8:45 am]

BILLING CODE 3410-XY-P